DEPARTMENT OF EDUCATION

Revised Sexual Harassment Guidance: Harassment of Students by School Employees, Other Students, or Third Parties

AGENCY: Office for Civil Rights, Department of Education.

ACTION: Notice of availability.

SUMMARY: The Assistant Secretary for Civil Rights, U.S. Department of Education (Department), announces the availability of a document (revised sexual harassment guidance) that replaces the 1997 document entitled “Sexual Harassment Guidance: Harassment of Students by School Employees, Other Students, or Third Parties,” issued by the Office for Civil Rights (OCR) on March 13, 1997 (1997 guidance). We revised the guidance in limited respects in light of subsequent Supreme Court cases relating to sexual harassment in schools.

The revised guidance reaffirms the compliance standards that OCR applies in investigations and administrative enforcement of Title IX of the Education Amendments of 1972 (Title IX) regarding sexual harassment. The revised guidance re-grounds these standards in the Title IX regulations, distinguishing them from the standards applicable to private litigation for money damages and clarifying their regulatory basis as distinct from Title VII of the Civil Rights Act of 1964 agency law. In most other respects the revised guidance is identical to the 1997 guidance. Thus, we intend the revised guidance to serve the same purpose as the 1997 guidance. It continues to provide the principles that a school should use to recognize and effectively respond to sexual harassment of students in its program as a condition of receiving Federal financial assistance.

FOR FURTHER INFORMATION CONTACT: Address requests for copies of the revised sexual harassment guidance to Jeanette J. Lim, U.S. Department of Education, 400 Maryland Avenue, SW., room 5212 Switzer Building, Washington, DC 20202-1100. Telephone: (202) 205-5557 or 1-800-421-3481. For all requests submitted by letter, you must include the term “Revised Sexual Harassment Guidance.”

If you use a telecommunications device for the deaf (TDD), you may call the TDD number at (202) 260-0471. The document is also available through the Internet at the following site: http://www.ed.gov/ocr/shguide

If you prefer to send your request through the Internet, use the following address: ocr@ed.gov

You must include the term “Revised Sexual Harassment Guidance” in the subject line of your electronic message.

Individuals with disabilities may obtain this document in an alternative format (e.g., Braille, large print, audiotape, or computer diskette) by contacting the OCR Customer Service Team at 1-800-421-3481.

Electronic Access to This Document

You may view this notice, as well as all other Department of Education documents published in the Federal Register, in text or Adobe Portable Document Format (PDF) on the Internet at either of the following sites:

http://ocfo.ed.gov/fedreg.htm

http://www.ed.gov/news.html

To use PDF, you must have Adobe Acrobat Reader, which is available free at either of the previous sites. If you have questions about using PDF, call the U.S. Government Printing Office (GPO), toll free, at 1-888-293-6498; or in the Washington, DC, area at (202) 512-1530.

Note: The official version of this notice is the notice published in the Federal Register. Free Internet access to the official edition of the Federal Register and the Code of Federal Regulations is available on GPO Access at: http://www.access.gpo.gov/nara/index.html.

Dated: January 16, 2001.
Norma V. Cantú,
Assistant Secretary for Civil Rights.

[FR Doc. 01-1606 Filed 1-18-01; 8:45 am]

BILLING CODE 4000-01-U